DEPARTMENT OF HEALTH AND HUMAN SERVICES

Health Resources and Services Administration

42 CFR Parts 57 and 58

RIN: 0906-AA53

Grants for Construction of Teaching Facilities, Educational Improvements, Scholarships and Student Loans and Grants for Training of Public Health and Allied Health Personnel

AGENCY: Health Resources and Services Administration, HHS.

ACTION: Final rule.

SUMMARY: This final rule rescinds and removes various Public Health Service (PHS) health professions, nursing, public health, and allied health training grant regulations from the Code of Federal Regulations (CFR) at 42 CFR parts 57 and 58. (The student loan program regulations in part 57 at subparts C and D are not to be affected.)

EFFECTIVE DATE: This rule is effective August 27, 2001.

FOR FURTHER INFORMATION CONTACT: Marilyn Biviano, Director, Office of Planning and Program Development, Bureau of Health Professions, Health Resources and Services Administration, Room 8-67, Parklawn Building, 5600 Fishers Lane, Rockville, Maryland 20857; telephone: (301) 443-9792.

SUPPLEMENTARY INFORMATION: On October 6, 1999, the Health Resources and Services Administration published in the Federal Register (64 FR 54263) a Notice of Intent to remove by technical amendment (final rule) various Agency health professions, nursing, public health, and allied health training grant program regulations under 42 CFR parts 57 and 58 of the Code of Federal Regulations. The Department received no comments response from the public on the Notice of Intent. The statutory authorities of these regulations have been extensively amended since their issuance. Consequently, the regulations no longer reflect the current law. Therefore, the Department is removing the following 19 training grant program regulations from the Code of Federal Regulations:

Part 57—Grants for Construction of Teaching Facilities, Educational Improvements, Scholarships and Student Loans

Subpart F—Grants for Nurse Anesthetist

Subpart H—Grants for Physician Assistant Training Programs

Subpart I—Programs for the Training of Physician Assistants

Subpart L—Grants for Residency Training and Advanced Education in the General Practice of Dentistry

Subpart Q—Grants for Predoctoral, Graduate, and Faculty Development Education Programs in Family Medicine

Subpart R—Grants for the Establishment of Departments of Family Medicine

Subpart S—Educational Assistance to Individuals from Disadvantaged Backgrounds

Subpart V—Grants for Centers of Excellence

Subpart Y—Grants for Nurse Practitioner and Nurse Midwifery Programs

Subpart Z—Grants for Advanced Nurse Education Programs

Subpart CC—Scholarships for Students of Exceptional Financial Need

Subpart DD—Financial Assistance for Disadvantaged Health Professions Students

Subpart EE—Grants for Residency Training in Preventive Medicine

Subpart FF—Grants for Residency Training and Faculty Development in General Internal

Medicine and/or General Pediatrics

Subpart MM—Area Health Education Center Program

Subpart OO—Grants for Geriatric Education Centers

Subpart PP—Grants for Faculty Training Projects in Geriatric Medicine and Dentistry

Part 58—Grants for Training of Public Health and Allied Health Personnel

Subpart C—Grants for Public Health Traineeships for Students in Schools of Public Health and in Other Graduate Public Health Programs

Subpart D—Grants for Health Administration Traineeships and Special Projects Program

Program specific guidance and information for preparing applications for the current program authorities under Pub. L. 105-392 are now provided in the grant application materials. Further, current program information is announced in the HRSA Preview and published in the Federal Register semi-annually. The HRSA Preview provides the general public with a single source of program and application information related to the Agency's competitive grant reviews and is designed to replace multiple Federal Register notices which traditionally advertised the availability of HRSA's discretionary funds for its various programs. The most recent edition of the HRSA Preview was published in the Federal Register on July 7, 2000 (Part III, 65 FR 42190-42331).

Justification for Omitting Notice of Proposed Rulemaking

This final rule rescinds and removes various Public Health Service health professions, nursing, public health, and allied health training grant regulations from title 42 of the CFR, parts 57 and 58. The existing training grant regulations are fundamentally and extensively inconsistent with present statutes as set out in titles VII and VIII of the Public Health Service Act, particularly as most recently amended by the Health Professions Education Partnerships Act of 1998 (Pub. L. 105-392), enacted November 13, 1998. The general focus of that legislation was to consolidate a myriad of small, highly categorical Federal training grant programs into seven general categories of authorities. These categories are designed to support the training of health personnel most likely to enter practice in rural and other medically underserved areas, and to provide flexibility to program managers in adapting the training supported to changing needs. We have concluded, based on our experience in carrying out the revised programs over the past two years, that this flexibility is best exercised through program-specific guidance and information provided in annual grant application materials. Because statutes always take precedence over regulations, and the existing regulations are inconsistent with the interdisciplinary approach of the current law, the regulations are largely irrelevant and certainly confusing. For these reasons, and in accordance with the October 6, 1999, Notice of Intent referred to above, the Secretary has determined, under 5 U.S.C. 553, that it is unnecessary, impractical, and contrary to the public interest to follow proposed rulemaking procedures or to delay the effective date of these amendments to parts 57 and 58.

Economic and Regulatory Impact

Executive Order 12866 directs agencies to assess all costs and benefits of available regulatory alternatives and, when rulemaking is necessary, to select regulatory approaches that provide the greatest net benefits (including potential economic, environmental, public health, safety distributive and equity effects). In addition, under the Regulatory Flexibility Act, if a rule has a significant economic effect on a substantial number of small entities the Secretary must specifically consider the economic effect of a rule on small entities and analyze regulatory options that could lessen the impact of the rule.

Executive Order 12866 requires that all regulations reflect consideration of alternatives, of costs, of benefits, of incentives, of equity, and of available information. Regulations must meet certain standards, such as avoiding an unnecessary burden. Regulations which are “significant” because of cost, adverse effects on the economy, inconsistency with other agency actions, effects on the budget, or novel legal or policy issues, require special analysis.

The Department has determined that no resources are required to implement the requirements in this rule. Therefore, in accordance with the Regulatory Flexibility Act of 1980 (RFA) and the Small Business Regulatory Enforcement Act of 1996, which amended the RFA, the Secretary certifies that this rule will not have a significant impact on a substantial number of small entities. The Secretary has also determined that this final rule does not meet the criteria for a major rule as defined by Executive Order 12866 and would have no major effect on the economy or Federal expenditures.

We have determined that the rule is not a “major rule” within the meaning of the statute providing for Congressional review of agency rulemaking, 5 U.S.C. 801. Similarly, it will not have effects on State, local, and tribal governments and on the private sector such as to require consultation under the Unfunded Mandates Reform Act of 1995.

Paperwork Reduction Act of 1980

Because this final rule rescinds and removes 19 subparts under 42 CFR parts 57 and 58, the following information collections required under the following 12 subparts, under OMB control number 0915-0060 are also rescinded and removed:

42 CFR Part 57—Grants for Construction of Teaching Facilities, Educational Improvement, Scholarship and Student Loans

Subpart F: Grants for Nurse Anesthetist Traineeship Programs
57.509(c) | Demonstration of financial need | Disclosure.
57.510(a)(1) | Statement of appointment—trainee | Disclosure.
57.510(a)(2) | Statement of appointment—grantee | Recordkeeping.
57.512(b) | Notification to trainee | Disclosure.
Subpart H: Grants for Physician Assistant Training Program
57.705 | Application | Reporting.
57.705(d) | Project director incapacity | Reporting.
57.705(f) | Annual Report | Reporting.
Subpart L: Grants for Residency Training and Advanced Education in the General Practice of Dentistry
57.1104 | Application | Reporting.
Subpart R: Grants for Establishment of Departments of Family Medicine
57.1704 | Program requirements—cont. application | Reporting.
Subpart Y: Nurse Practitioner and Nurse Midwifery Program Grants
57.2404 | Application | Reporting.
57.2405(b) | Program director incapacity | Reporting.
57.2405(c) | Data collection and evaluation | Reporting.
Subpart Z: Grants for Advanced Nurse Education Program
57.2504 | Application | Reporting.
Subpart EE: Grants for Residency Training in Preventive Medicine
57.3003 | Application | Reporting.
57.3004(e) | Minority recruitment | Reporting.
57.3007(a) | Other sources of funding | Reporting.
Subpart FF: Grants for Residency Training and Faculty Development in General Internal Medicine or General Pediatrics
57.3104 | Application | Reporting.
Subpart MM: Area Health Education Center (AHEC) Program
57.3804(d)(1) | Written agreement with AHEC | Recordkeeping.
57.3804(d)(3)(ii) | Written request for waiver | Reporting.
57.3804(d)(5)(iii) | Written agreement | Recordkeeping.
57.3804(e)(7)(i) | Provide potential employers with information about nurse practitioners and physician assistants | Disclosure.
57.3804(e)(7)(iii) | Distribution information about training programs | Disclosure.
Subpart PP: Grants for Faculty Training Projects in Geriatric Medicine and Dentistry
57.4103 | Application | Reporting.
57.4110(a) | Statement of appointment—trainee | Disclosure.
57.4110(a) | Statement of appointment—grantee | Recordkeeping.
57.4111(b) | Notice of tuition refund | Disclosure.

42 CFR Part 58—Grants for Training of Public Health and Allied Health Personnel

Subpart C: Grants for Public Health Traineeships for Students in Schools of Public Health and in Other Graduate Public Health Programs
58.208(a) | Statement of appointment | Recordkeeping.
58.208(d) | Advice to trainees | Disclosure.
Subpart D: Grants for Health Administration Traineeships and Special Projects Program
58.224 | Application | Reporting.

List of Subjects in 42 CFR Parts 57 and 58

Aged, Dental health, Education of the disadvantaged, Educational facilities, Educational study programs, Grant programs—education, Grant programs—health, Health facilities, Health professions, Loan programs, Medical and dental schools, Student aid, Reporting and recordkeeping requirements, Scholarships and fellowships, Public health.

Dated: April 24, 2001.
Elizabeth M. Duke,
Acting Administrator.
Approved: May 30, 2001.
Tommy G. Thompson,
Secretary.

Accordingly, under the authority of section 215 of the Public Health Service Act, 58 Stat. 690, as amended by 63 Stat. 35 and 67 Stat. 631 (42 U.S.C. 216), we are amending 42 CFR parts 57 and 58 as set forth below:

PART 57—GRANTS FOR CONSTRUCTION OF TEACHING FACILITIES, EDUCATIONAL IMPROVEMENTS, SCHOLARSHIPS AND STUDENT LOANS

Subpart F—Grants for Nurse Anesthetist (§§ 57.501-57.514)—[Removed and Reserved]

1. Part 57 is amended by removing and reserving subpart F (consisting of §§ 57.501-57.514).

Subpart H—Grants for Physician Assistant Training Programs (§§ 57.701-57.712)—[Removed and Reserved]

2. Part 57 is amended by removing and reserving subpart H (consisting of §§ 57.701-57.712).

Subpart I—Programs for the Training of Physician Assistants (§§ 57.801-57.803)—[Removed and Reserved]

3. Part 57 is amended by removing and reserving subpart I (consisting of §§ 57.801-57.803).

Subpart L—Grants for Residency Training and Advanced Education in the General Practice of Dentistry (§§ 57.1101-57.1112)—[Removed and Reserved]

4. Part 57 is amended by removing and reserving subpart L (consisting of §§ 57.1101-57.1112).

Subpart Q—Grants for Predoctoral, Graduate, and Faculty Development Education Programs in Family Medicine (§§ 57.1601-57.1610)—[Removed and Reserved]

5. Part 57 is amended by removing and reserving subpart Q (consisting of §§ 57.1601-57.1610).

Subpart R—Grants for the Establishment of Departments of Family Medicine (§§ 57.1701-57.1710)—[Removed and Reserved]

6. Part 57 is amended by removing and reserving subpart R (consisting of §§ 57.1701-57.1710).

Subpart S—Educational Assistance to Individuals from Disadvantaged Backgrounds (§§ 57.1801-57.1811)—[Removed and Reserved]

7. Part 57 is amended by removing and reserving subpart S (consisting of §§ 57.1801-57.1811).

Subpart V—Grants for Centers of Excellence (§§ 57.2101-57.2110)—[Removed and Reserved]

8. Part 57 is amended by removing and reserving subpart V (consisting of §§ 57.2101-57.2110).

Subpart Y—Grants for Nurse Practitioner and Nurse Midwifery Programs (§§ 57.2401-57.2410)—[Removed and Reserved]

9. Part 57 is amended by removing and reserving subpart Y (consisting of §§ 57.2401-57.2410, including the Appendix to Subpart Y— Guidelines for Nurse Practitioner and Nurse Midwifery Programs).

Subpart Z—Grants for Advanced Nurse Education Programs (§§ 57.2501-57.2510)—[Removed and Reserved]

10. Part 57 is amended by removing and reserving subpart Z (consisting of §§ 57.2501-57.2510).

Subpart CC—Scholarships for Students of Exceptional Financial Need (§§ 57.2801-57.2810) —[Removed and Reserved]

11. Part 57 is amended by removing and reserving subpart CC (consisting of §§ 57.2801-57.2810).

Subpart DD—Financial Assistance for Disadvantaged Health Professions Students (§ 57.2901-57.2910)—[Removed and Reserved]

12. Part 57 is amended by removing and reserving subpart DD (consisting of §§ 57.29801-57.2910).

Subpart EE—Grants for Residency Training in Preventive Medicine (§§ 57.3001-57.3011)—[Removed and Reserved]

13. Part 57 is amended by removing and reserving subpart EE (consisting of §§ 57.3001-57.3011).

Subpart FF—Grants for Residency Training and Faculty Development in General Internal Medicine and/or General Pediatrics (§§ 57.3101-57.3112)—[Removed and Reserved]

14. Part 57 is amended by removing and reserving subpart FF (consisting of §§ 57.3101-57.3112).

Subpart MM—Area Health Education Center Program (§§ 57.3801-57.3813)—[Removed and Reserved]

15. Part 57 is amended by removing and reserving subpart MM (consisting of §§ 57.3801-57.3813).

Subpart OO—Grants for Geriatric Education Centers (§§ 57.4001-57.4010)—[Removed and Reserved]

16. Part 57 is amended by removing and reserving subpart OO (consisting of §§ 57.4001-57.4010).

Subpart PP—Grants for Faculty Training Projects in Geriatric Medicine and Dentistry (§§ 57.4101-57.4115)—[Removed and Reserved]

17. Part 57 is amended by removing and reserving subpart PP (consisting of §§ 57.4101-57.4115).

PART 58—GRANTS FOR TRAINING OF PUBLIC HEALTH AND ALLIED HEALTH PERSONNEL

Subpart C—Grants for Public Health Traineeships for Students in Schools of Public Health and in Other Graduate Public Health Programs (§§ 58.201-58.215)—[Removed and Reserved]

18. Part 58 is amended by removing and reserving subpart C (consisting of §§ 58.201-58.215).

Subpart D—Grants for Health Administration Traineeships and Special Projects Program (§§ 58.221-58.234)—[Removed and Reserved]

19. Part 58 is amended by removing and reserving subpart D (consisting of §§ 58.221-58.234).

[FR Doc. 01-21544 Filed 8-24-01; 8:45 am]

BILLING CODE 4160-15-P